DEPARTMENT OF HEALTH AND HUMAN SERVICES

Food and Drug Administration

[Docket No. FDA-2016-N-1773]

Change of Address for the Food and Drug Administration Center for Food Safety and Applied Nutrition

AGENCY: Food and Drug Administration, HHS.

ACTION: Notice.

SUMMARY: The Food and Drug Administration (FDA or we) is providing notice that the street address for the Center for Food Safety and Applied Nutrition's (CFSAN's) Harvey W. Wiley Federal Building in College Park, MD has changed. The new street address is 5001 Campus Drive.

FOR FURTHER INFORMATION CONTACT: John Reilly, Center for Food Safety and Applied Nutrition (HFS-024), Food and Drug Administration, 5001 Campus Dr., College Park, MD 20740.

SUPPLEMENTARY INFORMATION: The purpose of this notice is to inform the public that the street address for CFSAN's Harvey W. Wiley Federal Building in College Park, MD has changed. The street, formerly known as Paint Branch Parkway, has been renamed “Campus Drive” and the street number has been changed to “5001.” Thus, the building's street address has changed from 5100 Paint Branch Parkway to 5001 Campus Drive, and our full address is: Center for Food Safety and Applied Nutrition, Food and Drug Administration, 5001 Campus Drive, College Park, MD 20740.

Consequently, any mailed correspondence addressed to CFSAN's Harvey W. Wiley Federal Building should use the new street address beginning immediately.

Dated: July 21, 2016.
Leslie Kux,
Associate Commissioner for Policy.

[FR Doc. 2016-17659 Filed 7-28-16; 8:45 am]

BILLING CODE 4164-01-P